DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Union Pacific Railroad

[Docket Number FRA-2004-18746]

The Union Pacific Railroad seeks a waiver of compliance from the requirements of Title 49 Code of Federal Regulations (CFR) § 232.205 Class I Brake Test—Initial terminal inspection, 232.409—Inspection and testing of end-of-train devices, 215.13 Pre-departure Inspection, and 229.21 Locomotive daily inspection. This waiver is necessary to allow tests and inspections conducted in Mexico by the Transportacion Ferroviaria Mexicana (TFM) to be considered valid for run-through trains interchanged with the Union Pacific at the Laredo, Texas Gateway. These trains are assembled in Mexico and receive a Class I airbrake and pre-departure inspections in Mexico at the TFM yard at Nuevo Laredo. Under current conditions, these trains operate only a few miles before receiving another Class I Brake Test and mechanical inspection in the United States. By granting this wavier, approximately five hours would be saved per run-through train and would greatly reduce congestion at the Laredo Gateway.

The parties to this waiver request are the Union Pacific Railroad, Transportacion Ferroviaria Mexicana (TFM) and the Texas Mexican Railway (Tex Mex). TFM would perform the Initial Terminal Tests and Inspections to the standards prescribed by Title 49 CFR Parts 215, 232, and 229. The Union Pacific would then operate the trains into the interior of the United States. Tex Mex would maintain all records required by applicable regulations for ready access on the U.S. side of the border. In addition, TFM has provided written consent to inspection of their facilities and to their personnel involved with performing the tests and inspections.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-18746) and must be submitted in triplicate to the Docket Clerk, DOT Central Docket Management Facility, Room Pl-401, Washington, DC. 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC, on August 2, 2004.
Michael Logue,
Deputy Associate Administrator for Safety Compliance and Program Implementation.

[FR Doc. 04-18197 Filed 8-9-04; 8:45 am]

BILLING CODE 4910-06-P